DEPARTMENT OF AGRICULTURE

Submission for OMB Review; Comment Request

December 1, 2003.

The Department of Agriculture has submitted the following information collection requirement (s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA _Submission @OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: 7 CFR 1941, Operating Loan Policies, Procedures and Authorizations.

OMB Control Number: 0560-0162.

Summary of Collection: The Consolidated Farm and Rural Development Act (7 U.S.C. 1922) (CONACT) authorizes the Secretary of Agriculture and the Farm Service Agency (FSA) to make and insure loans to farmers and ranchers and to administer the provisions of the CONACT applicable to the Farm Loan Program. The information is required to ensure that the agency provides assistance to applicants who have reasonable prospects of repaying the government and meet statutory eligibility requirements. This assistance enables family farm operators to use their land, labor, and other resources to improve their living and financial conditions so that they can eventually obtain credit elsewhere.

Need and Use of the Information: The information is needed for FSA loan approval officials to evaluate an applicant's eligibility, and to determine if the operation is economically feasible and the security offered in support of the loan is adequate. FSA relies on current information to carry out the business of the program as intended and to protect the government's interest. A variety of forms will be used to collect the information. If the information were not collected, or collected less frequently, the Agency would be: (1) Unable to make an accurate eligibility and financial feasibility determination on respondents' request for new loans as required by the CONACT; and (2) unable to meet the congressionally mandated mission of loan programs.

Description of Respondents: Farms; Business or other for-profit; Federal government; Individuals or households.

Number of Respondents: 26,146.

Frequency of Responses: Reporting: Other.

Total Burden Hours: 7,019.

Food and Nutrition Service

Title: National School Lunch Program Sample Frame Development.

OMB Control Number: 0584-NEW.

Summary of Collection: The Food and Nutrition Service (FNS), U.S. Department of Agriculture (USDA) conducts periodic evaluation of the school meal programs to provide updated information on program operations, meal characteristic, and students' diets as well as costs and revenues of school meals. The Economic Research Service has contracted with the team of Abt Associates Inc. and Mathematica Policy Research Inc., to design an integrated study of USDA school meal program and to assess the cost and feasibility of such a study. The integrated study will collect data on five domains: (1) Policies and practices of schools and School Food Authorities (SFAs) that affect school meal programs; (2) characteristics of meals as offered and served; (3) costs and revenues of providing schools meals; (4) student participation, satisfaction, and related attitudes toward the school lunch and breakfast programs; and (5) students' dietary intakes and other student/family characteristics that may influenced program participation. The integrated study would have a multi-level design featuring cross-sectional data and nationally representative samples of SFAs, schools, and students.

Need and Use of the Information: The National School Lunch Program Sample Frame Development is designed to provide a nationally representative sample frame of Public SFAs that are participating in the National School Lunch Program and/or School Breakfast Program. The information collected from the sample frame will include: current enrollment by school level, number of students approved for free and reduced-price meals, poverty rates, the type of school meal programs offered, type of menu-planning system in use, type of food production system used, whether the school district uses a food service management company to manage the food service operation, and the start and ending date of the school year. The information will be used to provide federal, state, and local policy makers as well as program administrators with much needed information on how the school meal programs have changed, since the implementation of the School Meal Initiative.

Description of Respondents: Not-for-profit institutions; Individual or households; State, Local or Tribal Government.

Number of Respondents: 2,079.

Frequency of Responses: Reporting: Other (One-time only).

Total Burden Hours: 3,119.

Forest Service

Title: Visitor Permit and Visitor Registration Card.

OMB Control Number: 0596-0019.

Summary of Collection: The Organic Administration Act (30 stat. 11), the Wilderness Act (78 stat. 890), the Wild and Scenic River Act (82 stat. 906) and Executive Order 11644, all authorize the Forest Service (FS) to manage the forests to benefit both land and people. Every year millions of people visit the National Forest System. As FS heads into the next millennium, their challenge is to meet the increasing demand for higher quality recreation experiences while safeguarding the health of the land. One way FS will care for the land and serve people is to determine where people are going when they visit the national forest, and give them information, which provides for a safe and enjoyable visit, and at the same time protects the resource. The Visitors Permit and Visitor Registration Card are tools that will help meet this objective. At the majority of locations visited, a permit for use is required. The FS uses the Visitor's Permit (Form 2300-30) and the Visitor Registration Card (Form 2300-32) to permit and monitor use in these areas.

Need and Use of the Information: The visitor permit provides FS with information about the visitor's name, address, area to be visited, date of visit, length of stay, method of travel, number of people, and number of pack and saddle stock. The permit and registration card allows managers to identify areas, which are being heavily used and is also used to locate forest visitors if they do not return from their trip as planned. If the information were not collected from visitors it could cause overuse and site deterioration in some environmentally sensitive areas.

Description of Respondents: Individuals or households; Business or other for-profit; Not-for profit institutions.

Number of Respondents: 368,000.

Frequency of Responses: Reporting: Other (per visit).

Total Burden Hours: 18,400.

Forest Service

Title: Economic, Social, and Cultural Aspects of Livestock Ranching on the Santa Fe and Carson National Forests.

OMB Control Number: 0596-NEW.

Summary of Collection: Management of federal lands is hampered in many cases because land managing agencies lack sufficient information to understand and monitor socio-cultural values and changing attitude toward land and resource use. The lack of up-to-date information impedes efforts of the Forest Service (FS) to work with livestock ranchers who graze their cattle under permit on FS managed land (permittees). Cultural differences and historic problems over land use contribute to disagreements and misunderstanding between the permittees and federal land managers. Information on the economic, social, and cultural contributions of livestock ownership to federal permittees is of interest to land managers, policy makers, social scientists, the general public, and the permittees themselves. FS will use a questionnaire to collect information from livestock permittees from the Santa Fe and Carson National Forest.

Need and use of the Information: FS will collect data on economic, social, and cultural contributions of livestock ownership will help FS personnel manage the land more effectively and work more cooperatively with the permittees by increasing understanding of the local culture and the role of livestock ownership in that culture. If the data is not collected, grazing allotment plans and forest plan revisions will not be based on the most current and appropriate socio-cultural and economic information.

Description of Respondents: Individuals or households; Farms; Business or other for-profit.

Number of Respondents: 600.

Frequency of Responses: Reporting: On occasion.

Total Burden Hours: 900.

Rural Business Cooperative Service

Title: 7 CFR 4284-F, Rural Cooperative Development Grant.

OMB Control Number: 0570-0006.

Summary of Collection: The Rural Cooperative Development Grants (RCDG) program is administered through the State Rural Development Offices on behalf of the Rural Business Cooperative Service (RBS). The primary objective of the program is to improve the economic condition of rural areas through cooperative development. Grant funds are awarded on a competitive basis using a scoring system that gives preference to applications that demonstrate a proven track record. The applicants, who are non-profit corporations or institutions of higher education, will provide information using various forms and supporting documentation.

Need and Use of the Information: RBS will use the information collected to evaluate the applicant's ability to carry out the purposes of the program. If this information were not collected, RBS would have no basis on which to evaluate the relative merit of each application.

Description of Respondents: Individuals or households; Not for profit institutions; State, Local or Tribal Government.

Number of Respondents: 75.

Frequency of Responses: Recordkeeping; Reporting: On occasion.

Total Burden Hours: 2,675.

National Agricultural Statistics Service

Title: Agricultural Resource Management, Chemical Use, and Post-Harvest Chemical Use Surveys.

OMB Control Number: 0535-0218.

Summary of Collection: The primary objectives of the National Agricultural Statistics Service (NASS) are to provide the public with timely and reliable agricultural production and economic statistics, as well as environmental and specialty agricultural related statistics. Three surveys—the Agricultural Resource Management Study, the Fruit and Vegetable Chemical Use Surveys, and the Post-harvest Chemical Use Survey—are critical to NASS' ability to fulfill thee objectives and to build the Congressionally mandated database on agricultural chemical use and related farm practices. NASS uses a variety of survey instruments to collect the information in conjunction with these studies.

Need and Use of the Information: The Agricultural Resource Management Study provides a robust database of information to address varied needs of policy makers. There are many uses for the information from this study including an evaluation of the safety of the Nation's food supply; input to the farm sector portion of the gross domestic product; and to provide a barometer on the financial condition of farm businesses. Data from the Fruit and Vegetable Chemical Use Surveys is used to assess the environmental and economic implications of various program and policies and the impact on agricultural producers and consumers.

The results of the Post-harvest Chemical Use Survey are used by the Environmental Protection Agency to develop Food Quality Protection Act risk assessments. Other organizations use this data to make sound regulatory decisions.

Description of Respondents: Farms

Number of Respondents: 80,650.

Frequency of Responses: Reporting: Annually.

Total Burden Hours: 57,209.

Rural Utility Service

Title: 7 CFR 1792, Subpart C—Seismic Safety of New Building Construction.

OMB Control Number: 0572-0099.

Summary of Collection: Seismic hazards present a serious threat to people and their surroundings. These hazards exist in most of the United States, not just on the West Coast. Unlike hurricanes, times and location of earthquakes cannot be predicted; most earthquakes strike without warning and, if of substantial strength, strike with great destructive forces. To reduce risks to life and property from earthquakes, Congress enacted the Earthquake Hazards Reduction Act of 1977 (Pub. L. 95-124, 42 U.S.C. 7702 et seq.) and directed the establishment and maintenance of an effective earthquake reduction program. As a result, the National Earthquake Hazards Reduction Program (NEHRP) was established. The objectives of the NEHRP include the development of technologically and economically feasible design and construction methods to make both new and existing structures earthquake resistant, and the development and promotion of model building codes. 7 CFR part 1792, subpart C, identifies acceptable seismic standards which must be employed in new building construction funded by loans, grants, or guarantees made by the Rural Utility Service (RUS) or the Rural Telephone Bank (RTB) or through lien accommodations or subordinations approved by RUS or RTB.

Need and Use of the Information: Borrowers and grant recipients must provide to RUS a written acknowledgment from a registered architect or engineer responsible for the design of each applicable building stating that the seismic provisions to 7 CFR part 1792, subpart C will be used in the design of the building. RUS will sue this information to: (1) Clarify and inform the applicable borrowers and grant recipients about seismic safety requirements; (2) improve the effectiveness of all RUS programs; and (3) reduce the risk to life and property through the use of approved building codes aimed at providing seismic safety.

Description of Respondents: Not-for-profit institutions; Business or other for-profit.

Number of Respondents: 1,000

Frequency of Responses: Reporting: On occasion.

Total Burden Hours: 750.

Agricultural Marketing Service

Title: Federal Seed Act Program.

OMB Control Number: 0581-0026.

Summary of Collection: The Federal Seed Act (FSA) (7 U.S.C. 1551-1611) regulates agricultural and vegetable seeds in interstate commerce. Agricultural and vegetable seeds shipped in interstate commerce are required to be labeled with certain quality information such as the name of the seed, the purity, the germination, and the noxious-weed seeds of the state into which the seed is shipped. State seed regulatory agencies refer to the Agricultural Marketing Service (AMS) complaints that involve seed found to be mislabeled and to have moved in interstate commerce. AMS investigates the alleged violations and if the violation is substantiated, takes regulatory action ranging from letters of warning to monetary penalties.

Need and Use of the Information: AMS will collect information from records of each lot of seed and make them available for inspection by agents of the Secretary. The information collected consists of records pertaining to interstate shipments of seed that have been alleged to be in violation of the FSA. The shipper's records pertaining to a complaint are examined by FSA program specialists and are used to determine if a violation of the FSA occurred. The records are used to determine the precautions taken by the shipper to assure that the seed was accurately labeled. If this information were not collected, it would be impossible to examine pertinent records to resolve complaints of violations.

Description of Respondents: Business or other for-profit; State, Local or Tribal Government; Farms.

Number of Respondents: 2,679.

Frequency of Responses: Recordkeeping; Reporting: On occasion.

Total Burden Hours: 36,602.

Food and Nutrition Service

Title: Form FNS-388, State Issuance and Participation Estimates.

OMB Control Number: 0584-0081.

Summary of Collection: Section 18(b) of the Food Stamp Act of 1977, as amended, requires that “In any fiscal year, the Secretary shall limit the value of those allotments issued (under the Food Stamp Program) to an amount not in excess of the appropriation for such fiscal year.;” Timely State monthly issuance estimates are necessary for the Food and Nutrition Service (FNS) to ensure that it remains within the appropriation and will have a direct effect upon the manner in which allotments would be reduced when necessary. FNS uses the FNS-388 report to obtain monthly Statewide estimated or actual issuance and participation data for the current and previous months, and the actual participation data for the second preceding month.

Need and Use of the Information: The FNS-388 report provides the necessary data for an early warning system to enable the Department to fulfill the requirements of section 18(b) of the Food Stamp Act. In addition, the data is used to (1) validate the Annual Food Stamp Household characteristic Survey; (2) to compile a Statistical Summary Report which is used for special studies and in response to Congressional and other inquiries; and (3) to compare against the coupon issuance points' FNS-250 (which reports issuances from inventory) and reconciliation points' FNS-46 issuance data (which reports issuances for coupons, electronic benefit transfers, and cash-out) for indications of accountability problems.

Description of Respondents: State, Local or Tribal Government.

Number of Respondents: 53.

Frequency of Responses: Recordkeeping; Reporting: Monthly.

Total Burden Hours: 4,542.

Food and Nutrition Service

Title: Food Stamp Program Identification Cards.

OMB Control Number: 0584-0124.

Summary of Collection: Section 11(e)(15) of the Food Stamp Act of 1977 requires that State agencies issue photographic identification cards to recipients in certain project areas, if the Secretary and the Department's Inspector General find it useful and cost effective to protect the integrity of the Food Stamp Program (FSP). The ID cards are required by the Food and Nutrition Service (FNS) to reduce the number of unauthorized food stamp issuances.

Need and Use of the Information: Photo IDs are used by issuance agents to identify households for monthly issuance; by retailers to identify households when benefits are redeemed; and by households to provide as proof when picking up monthly allotments. The use of the photo ID cards and the requirement to show it to obtain benefits is crucial to the agency's ability to protect the integrity of the Food Stamp Program.

Description of Respondents: State, Local or Tribal Government; Individuals or households.

Number of Respondents: 44,134.

Frequency of Responses: Recordkeeping; Reporting: On occasion.

Total burden Hours: 1,471.

National Agricultural Statistics Service

Title: Equine Survey.

OMB Control Number: 0535-0227.

Summary of Collection: The primary objective of the National Agricultural Statistics Service (NASS) is to prepare and issue current official State and national estimates of crop and livestock production, disposition, and prices. Services such as statistical consultation, data collection, summary tabulation, and analysis are performed for other Federal and State agencies on a reimbursable basis as the need arises. In the past, equine surveys have been conducted in twelve States where equine is a significant portion of their agriculture. The results are used to provide an assessment of the equine industry's contribution to the State's economy in terms of infrastructure and value.

Need and Use of the Information: NASS will collect information on equine inventories by: category, revenue, activity, purpose and equine related expenditures. In addition, these surveys will provide NASS with names and addresses of equine operations that can be used for the Census of Agriculture enumeration and for the NASS program that seeks to cover 99 percent of U.S. agricultural cash receipts.

Description of Respondents: Farms.

Number of Respondents: 73,475.

Frequency of Responses: Reporting: one-time.

Total Burden Hours: 26,363.

Rural Utilities Service

Title: Public Television Digital Transition Grant Program.

OMB Control Number: 0572-0134.

Summary of Collection: As part of the nation's evolution to digital television, the Federal communications commission has ordered all television broadcasters to initiate the broadcast of a digital television signal by May 1, 2003, and to cease analog television broadcasts on December 31, 2006. About half of the nation's public television stations did not meet the deadline to initiate digital broadcasting and received extensions. The Rural Utilities Service (RUS) will develop and issue requirements for the grant program to finance the conversion of television services from analog to digital broadcasting for public television stations serving rural areas.

Need and Use of the Information: Applicants will submit grant applications to RUS for review. The information will consist of the following: Standard Form (SF) 424, “Application for Federal Assistance”, executive summary, evidence of eligibility and compliance with other Federal statutes and any other supporting documentation. RUS will use the information to score and rank applications for funding. Scoring will consist of three categories: rurality, per capita income, and special disadvantaging factors facing the station's transition plans. If this information were not collected, there would be no basis for awarding grant funding.

Description of Respondents: Not-for-profit institutions; State, Local or Tribal Government.

Number of Respondents: 50.

Frequency of Responses: Reporting: On occasion.

Total Burden Hours: 1,168.

Ruth Brown,
Departmental Information Collection Clearance Officer.

[FR Doc. 03-30155 Filed 12-3-03; 8:45 am]

BILLING CODE 3410-01-M